COMMODITY FUTURES TRADING COMMISSION

Sunshine Act Meetings

FEDERAL REGISTER CITATION OF PREVIOUS ANNOUNCEMENT: 89 FR 48892, June 10, 2024.

PREVIOUSLY ANNOUNCED TIME AND DATE OF THE MEETING: 1:00 p.m. EDT, Friday, June 14, 2024.

CHANGES IN THE MEETING: The time of the meeting has changed. This meeting will now start at 9:00 a.m. EDT. The meeting date, place, Closed status, and matters to be considered, as previously announced, remain unchanged.

CONTACT PERSON FOR MORE INFORMATION: Christopher Kirkpatrick, 202-418-5964.

Authority: 5 U.S.C. 552b.

Dated: June 10, 2024.
Christopher Kirkpatrick,
Secretary of the Commission.

[FR Doc. 2024-12967 Filed 6-10-24; 11:15 am]

BILLING CODE 6351-01-P